GOVERNMENT ACCOUNTABILITY OFFICE

Methodology Committee of the Patient-Centered Outcomes Research Institute (PCORI)

AGENCY: Government Accountability Office (GAO).

ACTION: Call for nominations.

SUMMARY: The Patient Protection and Affordable Care Act gave the Comptroller General of the United States responsibility for appointing not more than 15 members to a Methodology Committee of the Patient-Centered Outcomes Research Institute. In addition, the Directors of the Agency for Healthcare Research and Quality and the National Institutes of Health, or their designees, are members of the Methodology Committee. Methodology Committee members must meet the qualifications listed in Section 6301 of the Act. Due to vacancies on the Committee, I am announcing the following: Letters of nomination and resumes should be submitted by April 11, 2014 to ensure adequate opportunity for review and consideration of nominees prior to appointment. Letters of nomination and resumes can be forwarded to either the email or mailing address listed below.

ADDRESSES: Email: PCORIMethodology@gao.gov.

Mail: U.S. GAO, Attn: PCORI Methodology Committee Appointments, 441 G Street NW., Washington, DC 20548

FOR FURTHER INFORMATION CONTACT: GAO: Office of Public Affairs, (202) 512-4800.

[Sec. 6301, Pub. L. 111-148]

Gene L. Dodaro,
Comptroller General of the United States.

[FR Doc. 2014-05443 Filed 3-13-14; 8:45 am]

BILLING CODE 1610-02-M